DEPARTMENT OF DEFENSE

Department of the Army, Corps of Engineers

33 CFR Part 214

RIN 0710-AB38

Emergency Supplies of Drinking Water

AGENCY: U.S. Army Corps of Engineers, Department of Defense.

ACTION: Final rule.

SUMMARY: This final rule removes the U.S. Army Corps of Engineers' part titled, “Emergency Supplies of Drinking Water.” This part is mostly duplicative of an equivalent part in the agency's regulations. Where it is not duplicative this part could be misleading, as its provisions have been superseded by those in the equivalent part related to emergency water supplies due to contaminated water sources. Therefore, this part can be removed from the Code of Federal regulations (CFR).

DATES: This rule is effective on July 2, 2021.

ADDRESSES: Department of the Army, U.S. Army Corps of Engineers, ATTN: CECW-HS (Mr. Mark Roupas), 441 G Street NW, Washington, DC 20314-1000.

FOR FURTHER INFORMATION CONTACT: Mr. Willem Helms at (202) 761-5909 or by email at willem.h.helms@usace.army.mil.

SUPPLEMENTARY INFORMATION: This final rule removes from the CFR part 214 of title 33, “Emergency Supplies of Drinking Water.” The regulation was initially promulgated on February 19, 1976 (41 FR 7506), solely in order to implement the 1974 amendment to Public Law 84-99 in Section 82(2) of Public Law 93-251, authorizing the Chief of Engineers to provide emergency supplies of clean drinking water to any locality with contaminated drinking water causing or likely to cause a substantial threat to the public health and welfare. The removed part is mostly duplicative of the equivalent section of 33 CFR part 203 at § 203.61, Emergency water supplies due to contaminated water source. The Corps' current emergency management regulation in 33 CFR part 203 includes coverage of the contaminated water authority among the other aspects of the Corps' emergency management program. Where it is not duplicative part 214 could be misleading, as its provisions have been superseded by those in 33 CFR part 203 related to emergency water supplies due to contaminated water sources. While the rule applies only to Corps internal agency guidance regarding responses to provide emergency supplies of drinking water, it was published, at that time, in the Federal Register to aid public accessibility.

The solicitation of public comment is unnecessary as this part is redundant or otherwise out-of-date. This removal is being conducted to provide clarity and reduce confusion for the public as well as for the Corps regarding the current policy which governs the Corps' provision of emergency supplies of clean drinking water. Because the regulation does not place a burden on the public, its removal does not provide a reduction in public burden or costs. This rule is not significant under Executive Order 12866, “Regulatory Planning and Review.”

List of Subjects in 33 CFR Part 214

Disaster assistance, Intergovernmental relations, Water supply.

PART 214—[REMOVED]

Accordingly, for the reasons stated in the preamble and under the authority of 5 U.S.C. 301, the Corps removes 33 CFR part 214.

Dated: June 29, 2021.
Jaime A. Pinkham,
Acting Assistant Secretary of the Army (Civil Works).

[FR Doc. 2021-14247 Filed 7-1-21; 8:45 am]

BILLING CODE 3720-58-P